DEPARTMENT OF THE INTERIOR

National Park Service

[NPS-WASO-NAGPRA-NPS0031786; PPWOCRADN0-PCU00RP14.R50000]

Notice of Inventory Completion: San Bernardino County Museum, Redlands, CA

AGENCY: National Park Service, Interior.

ACTION: Notice.

SUMMARY: The San Bernardino County Museum (SBCM) has completed an inventory of human remains and associated funerary objects, in consultation with the appropriate Indian Tribes or Native Hawaiian organizations, and has determined that there is a cultural affiliation between the human remains and associated funerary objects, and present-day Indian Tribes or Native Hawaiian organizations. Lineal descendants or representatives of any Indian Tribe or Native Hawaiian organization not identified in this notice that wish to request transfer of control of these human remains and associated funerary objects should submit a written request to the San Bernardino County Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the San Bernardino County Museum at the address in this notice by May 27, 2021.

ADDRESSES: Tamara Serrao-Leiva, San Bernardino County Museum, 2024 Orange Tree Lane, Redlands, CA 92374, telephone (909) 798-8623, email tserrao-leiva@sbcm.sbcounty.gov.

SUPPLEMENTARY INFORMATION: Notice is here given in accordance with the Native American Graves Protection and Repatriation Act (NAGPRA), 25 U.S.C. 3003, of the completion of an inventory of human remains and associated funerary objects under the control of the San Bernardino County Museum, Redlands, CA. The human remains and associated funerary objects were removed from San Bernardino County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Bernardino County Museum professional staff in consultation with representatives of the Agua Caliente Band of Cahuilla Indians of the Agua Caliente Indian Reservation, California; Cabazon Band of Mission Indians, California; Cahuilla Band of Indians [previously listed as Cahuilla Band of Mission Indians of the Cahuilla Reservation, California]; Morongo Band of Mission Indians, California [previously listed as Morongo Band of Cahuilla Mission Indians of the Morongo Reservation]; San Manuel Band of Mission Indians, California [previously listed as San Manual Band of Serrano Mission Indians of the San Manual Reservation]; Santa Rosa Band of Cahuilla Indians, California [previously listed as Santa Rosa Band of Cahuilla Mission Indians of the Santa Rosa Reservation]; and the Mission Creek Band of Mission Indians, a non-federally recognized Indian group. The Augustine Band of Cahuilla Indians, California [previously listed as Augustine Band of Cahuilla Mission Indians of the Augustine Reservation]; Los Coyotes Band of Cahuilla and Cupeno Indians, California [previously listed as Los Coyotes Band of Cahuilla & Cupeno Indians of the Los Coyotes Reservation]; Ramona Band of Cahuilla, California [previously listed as Ramona Band or Village of Cahuilla Mission Indians of California]; and the Torres Martinez Desert Cahuilla Indians, California [previously listed as Torres-Martinez Band of Cahuilla Mission Indians of California] were invited to consult, but did not participate. Hereafter, all the Indian Tribes and groups listed above are referred to as “The Consulted and Invited Tribes and Groups.”

History and Description of the Remains

On October 4, 1957, during the course of digging a reservoir, human remains representing, at minimum, two individuals were removed from the El Casco Dam Property (SBCM-118; CA-SBR-179) in San Bernardino County, CA. At some point, the human remains were comingled. One of the individuals is a child whose identity is unknown. The other individual, an adult, is identified as Juan Antonio Costo by a SBCM label reading “Remains of Juan Antonio.” (When collected, the child's bones might have been assumed to be those of Juan Antonio Costo.) The 32 associated funerary objects are one epaulette, two lots of fabric fragments, one lot of beads, one bell, two rings, four coins, four buttons, three lots of varied ceramic, one lot of micro beads, one lot of mixed beads, five nails, three lots of fragmented metal, one lot of buttons, one spoon, one metal cup fragment, and one military belt buckle and hardware. The remains of the adult identified as Juan Antonio Costo were found with the epaulette in situ.

Juan Antonio Costo was the last Hereditary Chief of the Cahuilla. In 1851, he moved his band to the village of Sahat'pa, in San Timoteo Canyon, where the El Casco Dam Property is located. Sahat'pa, a historic Cahuilla village and cemetery occupied by Mountain Cahuillas, remained under the leadership of Juan Antonio from 1851 until his death during the smallpox epidemic of early 1863. A SBCMA publication relates that an American General Bean gifted Juan Antonio many presents, including an officer's army coat and epaulettes, “which he wore proudly on all state occasions.”

The 1960's site record for CA-SBR-179 states that “[a]ll the dead of Juan Antonio's band” where found in burial contexts. The archeological field notes describe seven burials, and note that many others were heavily destroyed by tractor activity. (The location of the remains from those burials is unknown.) Subsequently, the site became registered California State Historic Site, No. 749.

Today, the Cahuilla are represented by the Agua Caliente Band of Cahuilla Indians of the Agua Caliente Indian Reservation, California; Augustine Band of Cahuilla Indians, California [previously listed as Augustine Band of Cahuilla Mission Indians of the Augustine Reservation]; Cabazon Band of Mission Indians, California; Cahuilla Band of Indians [previously listed as Cahuilla Band of Mission Indians of the Cahuilla Reservation, California]; Los Coyotes Band of Cahuilla and Cupeno Indians, California [previously listed as Los Coyotes Band of Cahuilla & Cupeno Indians of the Los Coyotes Reservation]; Morongo Band of Mission Indians, California [previously listed as Morongo Band of Cahuilla Mission Indians of the Morongo Reservation]; Ramona Band of Cahuilla, California [previously listed as Ramona Band or Village of Cahuilla Mission Indians of California]; Santa Rosa Band of Cahuilla Indians, California [previously listed as Santa Rosa Band of Cahuilla Mission Indians of the Santa Rosa Reservation]; and the Torres Martinez Desert Cahuilla Indians, California [previously listed as Torres-Martinez Band of Cahuilla Mission Indians of California]. Through consultation with representatives of the Santa Rosa Band of Cahuilla Indians, SBCM has identified Orlando Anthony Largo, Lorraine Lobbins, Leon Scribner, Lois Scribner Odom, and Vivian Hamilton as the lineal descendants of Juan Antonio Costo, and through consultation with representatives of the Cahuilla Band of Indians, SBCM has also identified a sixth lineal descendant of Juan Antonio Costo, Mara Costo.

Determinations Made by the San Bernardino County Museum

Personnel of the San Bernardino County Museum have determined that:

• Pursuant to 25 U.S.C. 3001(9), the human remains described in this notice represent the physical remains of two individuals of Native American ancestry.

• Pursuant to 25 U.S.C. 3001(3)(A), the 32 objects described in this notice are reasonably believed to have been placed with or near individual human remains at the time of death or later as part of the death rite or ceremony.

• Pursuant to 25 U.S.C. 3001(2), there is a relationship of shared group identity that can be reasonably traced between the Native American human remains and associated funerary objects and the Agua Caliente Band of Cahuilla Indians of the Agua Caliente Indian Reservation, California; Augustine Band of Cahuilla Indians, California [previously listed as Augustine Band of Cahuilla Mission Indians of the Augustine Reservation]; Cabazon Band of Mission Indians, California; Cahuilla Band of Indians [previously listed as Cahuilla Band of Mission Indians of the Cahuilla Reservation, California]; Los Coyotes Band of Cahuilla and Cupeno Indians, California [previously listed as Los Coyotes Band of Cahuilla & Cupeno Indians of the Los Coyotes Reservation]; Morongo Band of Mission Indians, California [previously listed as Morongo Band of Cahuilla Mission Indians of the Morongo Reservation]; Ramona Band of Cahuilla, California [previously listed as Ramona Band or Village of Cahuilla Mission Indians of California]; Santa Rosa Band of Cahuilla Indians, California [previously listed as Santa Rosa Band of Cahuilla Mission Indians of the Santa Rosa Reservation]; and the Torres Martinez Desert Cahuilla Indians, California [previously listed as Torres-Martinez Band of Cahuilla Mission Indians of California] (hereafter referred to as “The Affiliated Tribes”).

• Pursuant to 43 CFR 10.2(b)(1) and 10.14(b), Orlando Anthony Largo, Lorraine Lobbins, Leon Scribner, Lois Scribner Odom, Vivian Hamilton, and Mara Costo are the direct lineal descendants of Juan Antonio Costo; hereafter, they are referred to as “The Lineal Descendants.”

Additional Requestors and Disposition

Lineal descendants or representatives of any Indian Tribe or Native Hawaiian organization not identified in this notice that wish to request transfer of control of these human remains and associated funerary objects should submit a written request with information in support of the request to Tamara Serrao-Leiva, San Bernardino County Museum, 2024 Orange Tree Lane, Redlands, CA 92373, telephone (909) 798-8623, email tserrao-leiva@sbcm.sbcounty.gov, by May 27, 2021. After that date, if no additional requestors have come forward, transfer of control of the human remains of Juan Antonio Costa and the associated funerary objects to The Lineal Descendants or The Affiliated Tribes, and transfer of control of the human remains of the child and the associated funerary objects to The Affiliated Tribes may proceed.

The San Bernardino County Museum is responsible for notifying The Consulted and Invited Tribes and Groups and The Lineal Descendants that this notice has been published.

Dated: April 19, 2021.
Melanie O'Brien,
Manager, National NAGPRA Program.

[FR Doc. 2021-08776 Filed 4-26-21; 8:45 am]

BILLING CODE 4312-52-P